DEPARTMENT OF THE INTERIOR

Bureau of Land Management

[19XL.LLIDB03000.DF0000.LFHFFR650000.241A.4500136018]

Notice of Availability for the Tri-State Fuel Breaks Project Final Environmental Impact Statement, Idaho and Oregon

AGENCY: Bureau of Land Management, Interior.

ACTION: Notice of availability.

SUMMARY: In accordance with the National Environmental Policy Act of 1969, as amended, and the Federal Land Policy and Management Act of 1976, as amended, the Bureau of Land Management (BLM) Boise District Office, Boise, Idaho, and the BLM Vale District Office, Vale, Oregon, have prepared the Tri-state Fuel Breaks Project Final Environmental Impact Statement (DOI-BLM-ID-B000-2015-0001-EIS) (Final EIS) and, by this notice, are announcing its availability.

DATES: The BLM will not issue a final decision on the proposal for a minimum of 30 days following the date the Environmental Protection Agency publishes its Notice of Availability in the Federal Register.

ADDRESSES: Interested persons may also review the Final EIS and accompanying background documents on the project website: https://go.usa.gov/xPruu. If you are unable to access the documents online and would like a paper copy, please contact the Project Lead identified below.

FOR FURTHER INFORMATION CONTACT: Lance Okeson, Project Lead, telephone: 208-384-3300; 3948 South Development Ave., Boise, ID 83705; email: blm_id_tristate@blm.gov. Contact Mr. Okeson to have your name added to our mailing list. Persons who use a telecommunications device for the deaf (TDD) may call the Federal Relay Service (FRS) at 1-800-877-8339 to contact Mr. Okeson during normal business hours. FRS is available 24 hours a day, 7 days a week, to leave a message or a question. You will receive a reply during normal business hours.

SUPPLEMENTARY INFORMATION: Southwestern Idaho, southeastern Oregon, and northern Nevada (the Tri-state area) comprise one of the largest intact strongholds of sagebrush-steppe habitat in the Northern Great Basin. This area supports big game and sagebrush-dependent species and provides for a variety of multiple-use activities. Assessments have identified the project area as a landscape particularly threatened by wildfire and the subsequent spread of invasive annual grasses. For example, the 2010 Rapid Eco-regional Assessment of the Northern Basin and Range and Snake River Plain identified the tri-state area as being at high risk for large-scale wildfires. Wildfires in this remote area can grow quickly and affect hundreds of thousands of acres of sagebrush-steppe habitat and working landscapes within a matter of days. The 2012 Long Draw Fire (558,198 acres), the 2014 Buzzard Complex Fire (395,747 acres), the 2015 Soda Fire (285,360 acres), the 2018 Martin Fire (435,569 acres), and the 2018 Sugar Loaf Fire (233,462 acres)—all of which were in or near the project area—each impacted over a hundred thousand acres within 24 hours.

The sagebrush-steppe landscape within this area represents one of the most impacted ecosystems in the United States. The Secretary of the Interior's 2017 Wildland Fire Directive and Secretarial Order 3372 call for active management of public lands to reduce the risk of catastrophic wildfire to America's forests and rangelands. Management of wildfire has been identified as one of the key issues for maintaining sage-grouse populations in sagebrush-dominated landscapes.

Purpose and Need

The purpose of the action is to provide a network of fuel breaks to enable wildland fire suppression resources in the tri-state area to more safely, rapidly, and effectively protect natural and cultural resources from wildfires. The strategy proposes to create and maintain fuel breaks along established roads through mechanical, biological, chemical, and prescribed fire treatments. Fuel breaks reduce fuel accumulations and disrupt fuel continuity in order to modify fire behavior and provide safe anchor points for firefighters. Fuel breaks allow firefighters to more rapidly contain and control wildland fires and increase suppression efficacy by enabling firefighters to engage wildfires over a larger area. This network would improve firefighters' opportunities for protecting one of the few remaining large areas of intact sagebrush-steppe habitat from the threat of wildland fire.

Alternatives

Under the No Action Alternative (Alternative 1), a fuel break network would not be created. Fuels adjacent to roadways would not be treated to reduce fuel accumulations and disrupt fuel continuity. Fire suppression personnel would continue to use existing paved and other improved BLM and county roads and natural topographic features to attempt holding and controlling wildfire.

Under all action alternatives, fuel breaks would only be implemented alongside existing roads. Fuel breaks would extend up to, but no farther than, 200 feet from both sides of roadways. Environmental constraints such as adjacent vegetation, terrain, soil type, and resource concerns would dictate width and treatment type in a given area. No fuel breaks would be constructed in designated wilderness. Fuel breaks could be established along the non-wilderness side of boundary roads adjacent to designated wilderness and along boundary roads surrounding wilderness study areas (WSAs).

The methods for fuel break creation and maintenance analyzed in the Final EIS include mowing, hand cutting, seeding (including seedbed preparation techniques), herbicide treatment, prescribed fire (e.g., pile burning), and targeted grazing. These methods may be implemented in combination or as stand-alone treatments as necessary to meet the treatment objectives. Depending on available funding, implementation could occur over 15 years.

Alternative 2 contains the highest number and density of fuel breaks of all action alternatives. The BLM would implement and maintain a fuel break network along approximately 1,539 miles of existing roads: 731 miles in Idaho and 808 miles in Oregon.

Alternative 3 was developed to protect natural resources from large wildfires while minimizing impacts to cultural resources. Alternative 3 emphasizes avoidance of cultural resources and limiting impacts to special management areas (e.g., wilderness and WSAs). The fuel break network would span 1,063 miles of existing roads: 505 miles in Idaho and 558 miles in Oregon.

Alternative 4 emphasizes protection to wildlife and their habitat while providing a network of fuel breaks that meets the purpose and need. The fuel break network would span 910 miles of existing roads: 450 miles in Idaho and 460 miles in Oregon.

The Final EIS introduces Alternative 5, the preferred alternative, which blends elements of Alternatives 2, 3, and 4 to provide a strategic fuel break network that limits adverse impacts to wildlife and cultural resources. This alternative reflects adjustments to fuel break routes previously analyzed in the Draft EIS under Alternatives 2, 3, and 4 based on the analysis of impacts and public comments received. The fuel break network for this alternative would span 987 miles of existing roads: 435 miles in Idaho and 552 miles in Oregon.

Comments on the Draft EIS received from the public and internal BLM review were considered and incorporated as appropriate into the Final EIS. Public comments resulted in the development of Alternative 5, which is within the range of alternatives analyzed in the Draft EIS.

(Authority: 40 CFR 1506.6, 40 CFR 1506.10, and 43 CFR 1610.2)

Aimee D. K. Betts,
Acting Boise District Manager, Idaho.
Donald N. Gonzalez,
Vale District Manager, Oregon/Washington.

[FR Doc. 2020-06949 Filed 4-2-20; 8:45 am]

BILLING CODE 4310-GG-P